DEPARTMENT OF DEFENSE

GENERAL SERVICES ADMINISTRATION

NATIONAL AERONAUTICS AND SPACE ADMINISTRATION

[OMB Control No. 9000-0141]

Federal Acquisition Regulation; Submission for OMB Review; Buy American Act—Construction

AGENCIES: Department of Defense (DOD), General Services Administration (GSA), and National Aeronautics and Space Administration (NASA).

ACTION: Notice of request for comments regarding an extension to an existing OMB clearance (9000-0141).

SUMMARY: Under the provisions of the Paperwork Reduction Act of 1995 (44 U.S.C. Chapter 35), the Federal Acquisition Regulation (FAR) Secretariat has submitted to the Office of Management and Budget (OMB) a request to review and approve an extension of a currently approved information requirement concerning Buy American Act—Construction (Grimberg Decision). A request for public comments was published in the Federal Register at 70 FR 22650, May 2, 2005. No comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before August 8, 2005.

FOR FURTHER INFORMATION CONTACT Ms. Kimberly Marshall, Contract Policy Division, GSA, at (202) 219-0986.

ADDRESSES: Submit comments regarding this burden estimate or any other aspect of this collection of information, including suggestions for reducing this burden to: FAR Desk Officer, OMB, Room 10102, NEOB, Washington, DC 20503, and a copy to the General Services Administration, FAR Secretariat (VIR), 1800 F Street, NW, Room 4035, Washington, DC 20405.

SUPPLEMENTARY INFORMATION:

A. Purpose

The clauses at FAR 52.225-9, Buy American Act—Construction Materials, and FAR 52.225-11, Buy American Act—Construction Materials under Trade Agreements, prove that offerors/contractors requesting to use foreign construction material, other than construction material eligible under a trade agreement shall provide adequate information for Government evaluation of the request. These regulations implement the Buy American Act for construction (41 U.S.C. 10a - 10d).

B. Annual Reporting Burden

Respondents: 500.

Responses Per Respondent: 2.

Annual Responses: 1,000.

Hours Per Response: 2.5.

Total Burden Hours: 2,500.

Obtaining Copies of Proposals: Requesters may obtain a copy of the information collection documents from the General Services Administration, FAR Secretariat (VIR), Room 4035, Washington, DC 20405, telephone (202) 501-4755. Please cite OMB Control No. 9000-0141, Buy American Act—Construction (Grimberg Decision) in all correspondence.

Dated: June 30, 2005.
Julia B. Wise,
Director, Contract Policy Division.

[FR Doc. 05-13375 Filed 7-6-05; 8:45 am]

BILLING CODE 6820-EP-S